DEPARTMENT OF HOMELAND SECURITY

Coast Guard

33 CFR Part 117

[Docket No. USCG-2015-0850]

Drawbridge Operation Regulations; Delaware River, Burlington County, NJ

AGENCY: Coast Guard, DHS.

ACTION: Notice of deviation from drawbridge regulations.

SUMMARY: The Coast Guard has issued a temporary deviation from the operating schedules that govern the Tacony-Palmyra (Route 73) Bridge over Delaware River, mile 107.2, between Tacony, PA and Palmyra, NJ and Burlington-Bristol (Route 413) Bridge over Delaware River, mile 117.8, between Burlington, NJ and Bristol, PA. This deviation allows the bridges to remain in the closed-to-navigation position to facilitate the 2015 Papal Visit to Philadelphia, PA.

DATES: This deviation is effective from 6 a.m. on September 26, 2015, to 9 p.m. on September 27, 2015.

ADDRESSES: The docket for this deviation, [USCG-2015-0850], is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Hal R. Pitts, Bridge Administration Branch Fifth District, Coast Guard; telephone (757) 398-6222, email Hal.R.Pitts@uscg.mil. If you have questions on viewing the docket, call Cheryl Collins, Program Manager, Docket Operations, telephone 202-366-9826.

SUPPLEMENTARY INFORMATION: The Burlington County Bridge Commission, who owns and operates the Tacony-Palmyra (Route 73) Bridge over Delaware River and Burlington-Bristol (Route 413) Bridge over Delaware River, has requested a temporary deviation from the current operating regulations set out in 33 CFR 117.716 to facilitate movement of vehicles during the 2015 Papal Visit to Philadelphia, PA.

Under the normal operating schedule for Tacony-Palmyra (Route 73) Bridge over Delaware River, mile 107.2, between Tacony, PA and Palmyra, NJ and Burlington-Bristol (Route 413) Bridge over Delaware River, mile 117.8, between Burlington, NJ and Bristol, PA; opening of the bridge may not be delayed more than five minutes after the signal to open is given. The vertical clearances in the closed-to-navigation position of the Tacony-Palmyra (Route 73) Bridge over Delaware River and Burlington-Bristol (Route 413) Bridge over Delaware River are 53 feet and 62 feet, respectively, above mean high water.

Under this temporary deviation, the bridges will remain in the closed-to-navigation position from 6 a.m. to 9 p.m. on September 26 and September 27, 2015, except for scheduled daily openings at 12 noon and 6 p.m. Vessels signaling an intention to transit through both bridges during a scheduled opening will receive openings at both bridges. The bridges will operate as required per 33 CFR 117.716 from 9 p.m. on September 26 to 6 a.m. on September 27, 2015. The Delaware River is used by a variety of vessels including deep draft ocean-going vessels, small commercial fishing vessels, recreational vessels and tug and barge traffic. The Coast Guard has carefully coordinated the restrictions with commercial and recreational waterway users.

Vessels able to pass through the bridges in the closed position may do so at anytime. The bridges will be able to open for emergencies and there is no alternate route for vessels unable to pass through the bridges in the closed position. The Coast Guard will also inform the users of the waterways through our Local and Broadcast Notice to Mariners of the change in operating schedules for these bridges so that vessels can arrange their transits to minimize any impacts caused by this temporary deviation.

In accordance with 33 CFR 117.35(e), the drawbridges must return to their regular operating schedules immediately at the end of the effective period of this temporary deviation. This deviation from the operating regulations is authorized under 33 CFR 117.35.

Dated: September 10, 2015.
Hal R. Pitts,
Bridge Program Manager, Fifth Coast Guard District.

[FR Doc. 2015-23343 Filed 9-16-15; 8:45 am]

BILLING CODE 9110-04-P